DEPARTMENT OF HOMELAND SECURITY

Federal Emergency Management Agency

[Docket ID FEMA-2022-0002; Internal Agency Docket No. FEMA-B-2250]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: Maricopa | City of Avondale (21-09-1874P). | The Honorable Kenneth N. Weise, Mayor, City of Avondale, 11465 West Civic Center Drive, Avondale, AZ 85323. | Development & Engineering Services, Department, 11465 West Civic Center Drive, Avondale, AZ 85323. | https://msc.fema.gov/portal/advanceSearch. | Oct. 14, 2022 | 040038
California:
Placer | Unincorporated Areas of Placer County (21-09-1181P). | The Honorable Cindy Gustafson, Chair, Board of Supervisors, Placer County, 175 Fulweller Avenue, Auburn, CA 95603. | Placer County Public Works, 3091 County Center Drive, Suite 220, Auburn, CA 95603. | https://msc.fema.gov/portal/advanceSearch. | Oct. 17, 2022 | 060239
Riverside | Unincorporated Areas of Riverside County (22-09-0293P). | The Honorable Jeff Hewitt, Chair, Board of Supervisors, Riverside County, 4080 Lemon Street, 5th Floor, Riverside, CA 92501. | Riverside County, Flood Control and Water Conservation District, 1995 Market Street, Riverside, CA 92501. | https://msc.fema.gov/portal/advanceSearch. | Oct. 11, 2022 | 060245
San Bernardino | City of Fontana (21-09-1351P). | The Honorable Acquanetta Warren, Mayor, City of Fontana, 8353 Sierra Avenue, Fontana, CA 92335. | Engineering Department, 17001 Upland Avenue, Fontana, CA 92335. | https://msc.fema.gov/portal/advanceSearch. | Oct. 3, 2022 | 060274
San Bernardino | Unincorporated Areas of San Bernardino County (21-09-1351P). | The Honorable Curt Hagman, Chair, Board of Supervisors, San Bernardino County, 385 North Arrowhead Avenue, 5th Floor, San Bernardino, CA 92415. | San Bernardino County Public Works Water Resources Department, 825 East 3rd Street, San Bernardino, CA 92415. | https://msc.fema.gov/portal/advanceSearch. | Oct. 3, 2022 | 060270
Florida: St. Johns | Unincorporated Areas of St. Johns County (22-04-0054P). | Chair Henry Dean, St. Johns County Board of Commissioners, 500 San Sebastian View, St. Augustine, FL 32084. | St. Johns County Permit Center, 4040 Lewis Speedway, St. Augustine, FL 32084. | https://msc.fema.gov/portal/advanceSearch. | Sep. 30, 2022 | 125147
Idaho: Kootenai | Unincorporated Areas of Kootenai County (21-10-1307P). | Commissioner Chris Fillios, District 2, Kootenai County, 451 Government Way, Coeur d'Alene, ID 83814. | Assessors Department, Kootenai County Court House, 451 Government Way, Coeur d'Alene, ID 83816. | https://msc.fema.gov/portal/advanceSearch. | Oct. 7, 2022 | 160076
Indiana:
Steuben | Town of Hamilton (21-05-2799P). | President Mary Vail, Town of Hamilton, 900 South Wayne Street, Hamilton, IN 46742. | Town Hall, 7750 South Wayne Street, Hamilton, IN 46742. | https://msc.fema.gov/portal/advanceSearch. | Sep. 14, 2022 | 180248
Steuben | Unincorporated Areas of Steuben County (21-05-2799P). | President Wil Howard, Steuben County Board of Commissioners, 317 South Wayne Street, Angola, IN 46703. | Steuben County, Plan Commission Courthouse, 317 South Wayne Street, Angola, IN 46703. | https://msc.fema.gov/portal/advanceSearch. | Sep. 14, 2022 | 180243
Michigan: Shiawassee | City of Owosso (21-05-4550P). | The Honorable Christopher Eveleth, Mayor, City of Owosso, 301 West Main Street, Owosso, MI 48867. | City Hall, 301 West Main Street, Owosso, MI 48867. | https://msc.fema.gov/portal/advanceSearch. | Oct. 7, 2022 | 260596
New York:
Delaware. | Town of Walton (21-02-0345P). | Supervisor Joseph M. Cetta, Town of Walton, 129 North Street, Walton, NY 13856. | Town Hall, 129 North Street, Walton, NY 13856. | https://msc.fema.gov/portal/advanceSearch. | Nov. 3, 2022 | 360215
Delaware | Village of Walton (21-02-0345P). | The Honorable Edward Snow, Sr., Mayor, Village of Walton, 21 North Street, Walton, NY 13856. | Village Hall, 21 North Street, Walton, NY 13856. | https://msc.fema.gov/portal/advanceSearch. | Nov. 3, 2022 | 360216
Richmond | City of New York (21-02-1113P). | The Honorable Eric Adams, Mayor, City of New York, City Hall, New York, NY 10007. | City Department of City Planning, Waterfront Division, 22 Reade Street, New York, NY 10007. | https://msc.fema.gov/portal/advanceSearch. | Nov. 17, 2022 | 360497
Westchester | Town of Mamaroneck (22-02-0217P). | Supervisor Jaine Elkind Eney, Town of Mamaroneck, 740 West Boston Post Road, Mamaroneck, NY 10543. | Town Hall, 740 West Boston Post Road, Mamaroneck, NY 10543. | https://msc.fema.gov/portal/advanceSearch. | Dec. 1, 2022 | 360917
Oregon:
Multnomah. | City of Fairview (22-10-0253P). | The Honorable Brian Cooper, Mayor, City of Fairview, 1300 Northeast Village Street, Fairview, OR 97024. | Planning Department, 1300 Northeast Village Street, Fairview, OR 97024. | https://msc.fema.gov/portal/advanceSearch. | Oct. 6, 2022 | 410180
Multnomah. | City of Gresham (21-10-1434P). | The Honorable Travis Stovall, Mayor, City of Gresham, 1333 Northwest Eastman Parkway, 3rd Floor, Gresham, OR 97030. | City Hall, 1333 Northwest Eastman Parkway, Gresham, OR 97030. | https://msc.fema.gov/portal/advanceSearch. | Sep. 26, 2022 | 410181

[FR Doc. 2022-14764 Filed 7-11-22; 8:45 am]

BILLING CODE 9110-12-P